FEDERAL MARITIME COMMISSION

Ocean Transportation Intermediary License; Reissuance

Notice is hereby given that the following Ocean Transportation Intermediary license has been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
014263N | Jet Box Cargo, Inc., dba JBC International Logistic System, 2011 NW. 79th Avenue, Miami, FL 33122 | July 15, 2004.

Sandra L. Kusumoto,
Director, Bureau of Certification and Licensing.

[FR Doc. 04-19974 Filed 8-31-04; 8:45 am]

BILLING CODE 6730-01-P